FEDERAL COMMUNICATIONS COMMISSION

[OMB 3060-0185, OMB 3060-0291, OMB 3060-0767 and OMB 3060-0737; FR ID 113148]

Information Collections Being Reviewed by the Federal Communications Commission Under Delegated Authority

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid Office of Management and Budget (OMB) control number. No person shall be subject to any penalty for failing to comply with a collection of information subject to the PRA that does not display a valid OMB control number.

DATES: Written comments shall be submitted on or before January 9, 2023. If you anticipate that you will be submitting comments but find it difficult to do so within the period of time allowed by this notice, you should advise the contacts below as soon as possible.

ADDRESSES: Direct all PRA comments to Cathy Williams, FCC, via email: PRA@fcc.gov and to Cathy.Williams@fcc.gov.

FOR FURTHER INFORMATION CONTACT: For additional information about the information collection, contact Cathy Williams at (202) 418-2918.

SUPPLEMENTARY INFORMATION:

OMB Control Number: 3060-0185.

Title: Section 73.3613, Availability of Contracts.

Form Number: N/A.

Respondents: Business or other for-profit entities and Not-for-profit institutions.

Number of Respondents and Responses: 2,400 respondents; 2,400 responses.

Estimated Time per Response: 0.25 to 0.5 hours.

Frequency of Response: On-occasion reporting requirement, Recordkeeping requirement, Third-party disclosure requirement.

Obligation to Respond: Required to obtain or retain benefits. The statutory authority for this information collection is contained in sections 154(i) and 303 the Communications Act of 1934, as amended.

Total Annual Burden: 975 hours.

Total Annual Cost: $135,000.

Needs and Uses: The information collection requirements included under OMB Control Number 3060-0185 require that commercial and noncommercial AM, FM, TV, and international broadcast stations make station contracts and other documents available to the FCC as set forth in 47 CFR 73.3613.

OMB Control Number: 3060-0291.

Title: Section 90.477(a), (b)(2), (d)(2), and (d)(3), Interconnected Systems.

Form No.: N/A.

Type of Review: Extension of a currently approved collection.

Respondents: Business or other for-profit, not-for-profit institutions and state, local or tribal government.

Number of Respondents: 527 respondents; 527 responses.

Estimated Time per Response: .25 hours-2 hours.

Frequency of Response: On occasion reporting requirement, recordkeeping requirement and third party disclosure requirement.

Obligation to Respond: Required to obtain or retain benefits. Statutory authority for this information collection is contained in 47 U.S.C. 332(a).

Total Annual Burden: 176 hours.

Total Annual Cost: No cost.

Needs and Uses: The information collection requirements which govern interconnection of private land mobile radio service stations with the public switched telephone network are contained in 47 CFR 90.477(a) which requires that licensees of interconnected land stations maintain as part of their station records a detailed description of how interconnection is accomplished. The information collection requirements contained in 47 CFR 90.477(b)(2) and (d)(2) require that at least one licensee participating in any cost sharing arrangement for telephone service must maintain cost sharing records, the costs must be distributed at least once a year, and a report of the distribution must be placed in the licensee's station records and made available to participants in the sharing arrangement and the Commission upon request. The information collection requirements contained in 47 CFR 90.477(d)(3) require that licensees in the Industrial/Business Pool and those licensees who establish eligibility pursuant to 90.20(a)(2), other than persons or organizations charged with specific fire protection activities, persons or organizations charged with specific forestry-conservation activities, or medical emergency systems in the 450-470 MHz band, and who seek to connect within 120 km (75 miles) of 25 cities specified in 90.477(d)(3), must obtain the consent of all co-channel licensees located both within 120 km of the center of the city, and with 120 km of the interconnected base station transmitter. Consensual agreements must specifically state the terms agreed upon and a statement must be submitted to the Commission indicating that all co-channel licensees have consented to the use of interconnection.

In a December 1998 Report and Order in WT Docket Nos. 98-20 and 96-188, the Commission consolidated, revised and streamlined the Commission's rules governing the licensing application procedures for radio services licensed by the Commission's Wireless Telecommunications Bureau in order to fully implement the Universal Licensing System (ULS). As a result of the ULS rule conversions in connection with this information collection requirements contained in 47 CFR 90.477(a), interconnected systems now file all information (100 percent). Section 90.477(d)(3), interconnected systems were changed to reflect NAD83 coordinates.

OMB Control Number: 3060-0767.

Title: Sections 1.2110, 1.2111 and 1.2112, Auction and Licensing Disclosures—Ownership and Designated Entity Status.

Form Number: N/A.

Type of Review: Extension of a currently approved collection.

Respondents: Business or other for profit, Not-for-profit institutions, and State, local or tribal government.

Number of Respondents: 310 respondents; 310 responses.

Estimated Time per Response: 0.50 hours to 2 hours.

Frequency of Response: On occasion reporting requirement, Third party disclosure requirement, and Recordkeeping requirement.

Obligation to Respond: Required to obtain or retain benefits. Statutory authority for this information collection is contained in sections 154(i) and 309(j) of the Communications Act, as amended, 47 U.S.C. 4(i) and 309(j).

Total Annual Burden: 470 hours.

Total Annual Costs: $31,500.

Needs and Uses: A request for extension of this information collection (no change in requirements) will be submitted to the Office of Management and Budget (OMB) after this 60-day comment period in order to obtain the full three-year clearance from OMB. Beginning first on May 5, 1997, OMB approved under OMB 3060-0767 the Commission's collections of information pursuant to sections 1.2110, 1.2111, and 1.2112 of the Commission's rules, 47 CFR 1.2110, 1.2111, and 1.2112, and their predecessors, regarding ownership and designated entity status of parties involved with Commission licenses. The Commission collects this information in several contexts, including when determining the eligibility of applicants to participate in Commission auctions (including eligibility to claim designated entity benefits), the eligibility of parties to hold a Commission license/authorization (including eligibility for designated entity benefits), the eligibility of parties to whom licenses/authorizations are being assigned or transferred, and the repayment by license/authorization holders of the amount of bidding credits received in Commission auctions to avoid unjust enrichment. Applicants and licensees/authorization holders claiming eligibility for designated entity status are subject to audits and a record-keeping requirement regarding FCC-licensed service concerning such claims of eligibility, to confirm that their representations are, and remain, accurate. The collection of this information will enable the Commission to determine whether applicants are qualified to bid on and hold Commission licenses/authorizations and, if applicable, to receive designated entity benefits, and is designed to ensure the fairness of the auction, licensing, and license/authorization assignment and transfer processes. The information collected will be reviewed and, if warranted, referred to the Commission's Enforcement Bureau for possible investigation and administrative action. The Commission may also refer allegations of anticompetitive auction conduct to the Department of Justice for investigation. OMB has approved separately the routine collections of information pursuant to these Commission rules in applications to participate in Commission auctions) under OMB 3060-0600 (FCC Form 175), in Commission licensing applications under OMB 3060-0798 (FCC Form 601), and in assignment/transfer of control applications under OMB 3060-0800 (FCC Form 603). On occasion, the Commission may collect information from auction applicants, winning bidders and others applying for licenses/authorizations, and license/authorization holders pursuant to these rules under this information collection to clarify information provided in these application forms or in circumstances to which the standard forms may not directly apply.

OMB Control Number: 3060-0737.

Title: Disclosure Requirements for Information Services Provided Under a Presubscription or Comparable Arrangement.

Form Number: N/A.

Type of Review: Extension of a currently approved collection.

Respondents: Business or other for-profit.

Number of Respondents and Responses: 1,000 respondents; 1,000 responses.

Estimated Time per Response: 4.5 hours.

Frequency of Response: Annual and on occasion reporting requirement; Third party disclosure.

Obligation to Respond: Voluntary.

Total Annual Burden: 4,500 hours.

Total Annual Cost: No cost.

Needs and Uses: Section 64.1501(b) of the Commission's rules defines a presubscription or comparable arrangement as a contractual agreement in which an information service provider makes specified disclosures to consumers when offering “presubscribed” information services. The disclosures are intended to ensure that consumers receive information regarding the terms and conditions associated with these services before they enter into contracts to subscribe to them.

Federal Communications Commission.
Marlene Dortch,
Secretary, Office of the Secretary.

[FR Doc. 2022-24449 Filed 11-8-22; 8:45 am]

BILLING CODE 6712-01-P